DEPARTMENT OF DEFENSE

Department of the Air Force

Meeting of the U.S. Air Force Academy Board of Visitors

AGENCY: Department of the Air Force, Department of Defense.

ACTION: Notice; withdrawal.

SUMMARY: The Department of the Air Force is withdrawing the notice, Meeting of the U.S. Air Force Academy Board of Visitors Notice of Meeting that published May 17, 2016 at 81 FR 30521.

DATES: This withdrawal is effective May 23, 2016.

SUPPLEMENTARY INFORMATION: The Department of the Air Force is withdrawing the meeting notice of the U.S. Air Force Academy Board of Visitors that published May 17, 2016 at 81 FR 30521. The Department received notification from the OPR on 18 May 2016 that the location of the meeting was changed by the Congressional office. The Department will publish a new notice with the updated information in the Federal Register.

Henry Williams,
Acting Air Force Federal Register Liaison Officer.

[FR Doc. 2016-12145 Filed 5-20-16; 8:45 am]

BILLING CODE 5001-10-P